DEPARTMENT OF DEFENSE

Department of the Navy

Notice of Availability of Government-Owned Invention; Available for Licensing

AGENCY: Department of the Navy, DoD.

ACTION: Notice.

SUMMARY: The invention listed below is assigned to the United States Government as represented by the Secretary of the Navy and is available for licensing by the Department of the Navy. Patent application 10/943,648: Integrated Radar Optical Surveillance and Sighting System, a protection system integrating subsystems which may be controlled by non-proprietary, open architecture software, which, in turn, may accommodate the commonly known “plug and play” capability. The system can incorporate a variety of lethal (or less-than-lethal) weapon payloads as well as a variety of sensors and detectors; thereby providing the user with an integrated system solution capable of providing an enhanced situational awareness capability.

ADDRESSES: Requests for copies of the invention cited should be directed to the Naval Surface Warfare Center, Crane Div, Code 054, Bldg 1, 300 Highway 361, Crane, IN 47522-5001.

FOR FURTHER INFORMATION CONTACT: Mr. Brian Bailey, Naval Surface Warfare Center, Crane Div, Code 054, Bldg 1, 300 Highway 361, Crane, IN 47522-5001, telephone (812)

854-2378. To download an application for license, see: www.crane.navy.mil/newscommunity/techtrans_CranePatents.asp.

(Authority: 35 U.S.C. 207, 37 CFR part 404)

Dated: October 8, 2004.
J.H. Wagshul,
Commander, Judge Advocate General's Corps, U.S. Navy, Federal Register Liaison Officer.

[FR Doc. 04-23409 Filed 10-19-04; 8:45 am]

BILLING CODE 3810-FF-P